DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: Harm Reduction Grant Program Target Setting and Quarterly Aggregate Reporting Instrument—(OMB No. 0930-XXXX)

SAMHSA is requesting approval for its Harm Reduction Grant Program Annual Target Setting and Aggregate Quarterly Reporting Instrument. In developing the instrument, we sought to elicit programmatic information that demonstrates impact at the program level aligned with the Notice of Funding Opportunity. In this way, data from the instrument can be used to assess resource allocation and to delineate who we serve, how we serve them, and program impacts. The tool reflects SAMHSA's desire to elicit pertinent program level data that can be used to not only guide future programs and practice, but to also respond to stakeholder, congressional and agency enquiries.

The information collected from these forms is to be entered and stored in SAMHSA's Performance Accountability and Reporting System, which is a real-time, performance management system that captures information on the substance abuse treatment and mental health services delivered in the United States. Approval of this information collection will allow SAMHSA to continue to meet GPRA reporting requirements that quantify the effects and accomplishments of its discretionary grant programs, which are consistent with OMB guidance.

SAMHSA and its Centers will use the data for annual reporting required by the Government Performance and Results Act Modernization Act of 2010 (GPRMA). GPRMA requires that SAMHSA's fiscal year report include actual results of performance monitoring for the three preceding fiscal years. The additional information collected through this process will allow SAMHSA to (1) report results of these performance outcomes; (2) maintain consistency with SAMHSA-specific performance domains, and (3) assess the accountability and performance of its discretionary and formula grant programs.

Table 1—Estimates of Annualized Hour Burden
SAMHSA tool | Number of respondents | Responses per respondent | Total number of responses | Burden hours per response | Total burden hours | Hourly wage ¹ | Total hour cost
Target Setting Tool | 23 | 1 | 23 | 0.6 | 13.8 | $24.78 | $342
Aggregate Program Level Tool ² | 23 | 4 | 92 | 0.6 | 55.2 | 24.78 | 1,368
CSAP Total | 23 |  | 115 |  | 72 |  | 1,710
¹ The hourly wage estimate is $21.23 based on the Occupational Employment and Wages, Mean Hourly Wage Rate for 21-1011 Substance Abuse and Behavioral Disorder Counselors = $24.78/hr. as of May 11, 2021. (http://www.bls.gov/oes/current/oes211011.htm. Accessed on May 11, 2021.)
² This is an aggregate tool and collection is based on encounters.

Send comments to Carlos D. Graham, SAMHSA Reports Clearance Officer, 5600 Fishers Lane, Room 15E57-A, Rockville, Maryland 20857, OR email a copy to Carlos.Graham@samhsa.hhs.gov. Written comments should be received by April 15, 2022.

Carlos Graham,
Reports Clearance Officer.

[FR Doc. 2022-03107 Filed 2-11-22; 8:45 am]

BILLING CODE 4162-20-P